DEPARTMENT OF ENERGY

Federal Energy Regulatory Commission

Combined Notice of Filings #1

Take notice that the Commission received the following electric corporate filings:

Docket Numbers: EC17-170-000.

Applicants: Michigan Electric Transmission Company, LLC.

Description: Application Pursuant to Section 203 of the Federal Power Act to Acquire New Assets of Michigan Electric Transmission Company, LLC.

Filed Date: 9/1/17.

Accession Number: 20170901-5073

Comments Due: 5 p.m. ET 9/22/17.

Take notice that the Commission received the following electric rate filings:

Docket Numbers: ER17-2400-001.

Applicants: SP Butler Solar, LLC.

Description: Tariff Amendment: Amendment of Application for MBR Authority and Initial Baseline Tariff Filing to be effective 9/1/2017.

Filed Date: 9/1/17.

Accession Number: 20170901-5090.

Comments Due: 5 p.m. ET 9/22/17.

Docket Numbers: ER17-2403-000.

Applicants: SP Pawpaw Solar, LLC.

Description: Baseline eTariff Filing: Application for MBR Authority and Initial Baseline Tariff Filing to be effective 9/1/2017.

Filed Date: 8/31/17.

Accession Number: 20170831-5236.

Comments Due: 5 p.m. ET 9/21/17.

Docket Numbers: ER17-2404-000.

Applicants: SP Sandhills Solar, LLC.

Description: Baseline eTariff Filing: Application for MBR Authority and Initial Baseline Tariff Filing to be effective 9/1/2017.

Filed Date: 8/31/17.

Accession Number: 20170831-5237.

Comments Due: 5 p.m. ET 9/21/17.

Docket Numbers: ER17-2405-000.

Applicants: New England Power Pool Participants Committee.

Description: § 205(d) Rate Filing: Sep 2017 Membership Filing to be effective 9/1/2017.

Filed Date: 8/31/17.

Accession Number: 20170831-5238.

Comments Due: 5 p.m. ET 9/21/17.

Docket Numbers: ER17-2406-000.

Applicants: Pacific Gas and Electric Company.

Description: § 205(d) Rate Filing: Unexecuted WPAs, City and County of San Francisco WDT (SA 275) to be effective 9/1/2017.

Filed Date: 8/31/17.

Accession Number: 20170831-5176.

Comments Due: 5 p.m. ET 9/21/17.

Docket Numbers: ER17-2407-000.

Applicants: Duke Energy Carolinas, LLC.

Description: Compliance filing: Compliance Filing Reconciling Overlapping Amendments to be effective 6/1/2017.

Filed Date: 8/31/17.

Accession Number: 20170831-5180.

Comments Due: 5 p.m. ET 9/21/17.

Docket Numbers: ER17-2408-000.

Applicants: Appalachian Power Company.

Description: § 205(d) Rate Filing: CBEC Cost Based Formula Cancellation to be effective 7/31/2017.

Filed Date: 8/31/17.

Accession Number: 20170831-5187.

Comments Due: 5 p.m. ET 9/21/17.

Docket Numbers: ER17-2409-000.

Applicants: Alliant Energy Corporate Services, Inc.

Description: § 205(d) Rate Filing: AECS Updated Schedule 2 (Reactive Power) to be effective 11/1/2017.

Filed Date: 8/31/17.

Accession Number: 20170831-5188.

Comments Due: 5 p.m. ET 9/21/17.

Docket Numbers: ER17-2410-000.

Applicants: Appalachian Power Company.

Description: § 205(d) Rate Filing: ODEC Cost Based Formula Cancellation to be effective 7/31/2017.

Filed Date: 8/31/17.

Accession Number: 20170831-5190.

Comments Due: 5 p.m. ET 9/21/17.

Docket Numbers: ER17-2411-000.

Applicants: Appalachian Power Company.

Description: § 205(d) Rate Filing: Salem Cost Based Formula Cancellation to be effective 7/31/2017.

Filed Date: 8/31/17.

Accession Number: 20170831-5191.

Comments Due: 5 p.m. ET 9/21/17.

Docket Numbers: ER17-2412-000.

Applicants: California Independent System Operator Corporation.

Description: § 205(d) Rate Filing: 2017-08-31 Amendment 2 Particpating Load Agreement with CA Dept Water Resources to be effective 11/1/2017.

Filed Date: 8/31/17.

Accession Number: 20170831-5209.

Comments Due: 5 p.m. ET 9/21/17.

Docket Numbers: ER17-2413-000.

Applicants: Northern States Power Company, a Minnesota corporation.

Description: Notice of Cancellation of Connection Agreement for North Side Substation, et al. of Northern States Power Company, a Minnesota corporation.

Filed Date: 8/31/17.

Accession Number: 20170831-5241.

Comments Due: 5 p.m. ET 9/21/17.

Docket Numbers: ER17-2414-000.

Applicants: Midcontinent Independent System Operator, Inc.

Description: § 205(d) Rate Filing: 2017-09-01_SA 3042 Crowned Ridge-OTP GIA (J442) to be effective 8/21/2017.

Filed Date: 9/1/17.

Accession Number: 20170901-5012.

Comments Due: 5 p.m. ET 9/22/17.

Docket Numbers: ER17-2415-000.

Applicants: Pilesgrove Solar, LLC.

Description: Baseline eTariff Filing: Pilesgrove Solar, LLC Reactive Power Filing to be effective 11/1/2017.

Filed Date: 9/1/17.

Accession Number: 20170901-5087.

Comments Due: 5 p.m. ET 9/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2017.
Nathaniel J. Davis, Sr.,
Deputy Secretary.

[FR Doc. 2017-19146 Filed 9-8-17; 8:45 am]

BILLING CODE 6717-01-P